DEPARTMENT OF THE INTERIOR

Bureau of Land Management

[UTU 80808]

Public Land Order No. 7649; Withdrawal of Public Land for the Moab Mill Site Remediation Project; Utah

AGENCY: Bureau of Land Management, Interior.

ACTION: Public Land Order.

SUMMARY: This order withdraws approximately 2,300 acres of public land from location and entry under the United States mining and mineral leasing laws, for a period of 5 years, and reserves the land for use by the Department of Energy to conduct site characterization studies to determine a suitable location for disposal of uranium mill site tailings in connection with the Moab Mill Site Remediation Project.

Effective Date: November 15, 2005.

FOR FURTHER INFORMATION CONTACT: Mary von Koch, BLM Moab Field Office, 82 East Dogwood Avenue, Moab, Utah 84532, 435-259-2128.

SUPPLEMENTARY INFORMATION: The land has been and remains open to geothermal leasing and mineral material disposal.

Order

By virtue of the authority vested in the Secretary of the Interior by section 204 of the Federal Land Policy and Management Act of 1976, 43 U.S.C. 1714 (2000), it is ordered as follows:

1. Subject to valid existing rights, the land described below is hereby withdrawn from location and entry under the United States mining laws, 30 U.S.C. Ch. 2 (2000), and from leasing under the mineral leasing laws, 30 U.S.C. 181 et seq. and 30 U.S.C. 351 et seq. (2000), and reserved for use by the Department of Energy to protect the Moab Mill Site Remediation Project.

Salt Lake Meridian

T. 21 S., R. 19 E.,

Secs. 22 and 23, the land lying South of the Bookcliffs;

Sec. 24, lots 1, 2 and 3, the land in lot 4 lying North of the railroad right-of-way, the land in the W½ lying South of the Bookcliffs, and the land in the W½E½ lying North of the railroad right-of-way;

Sec. 25, the land in the N½NW¼ lying North of the railroad right-of-way;

Sec. 26, the land in the N½ and NW¼SW¼ lying North of the railroad right-of way;

Sec. 27, N½, N½SW¼, the land in the S½SW¼ and SE¼ lying North of the railroad right-of-way.

The area described contains approximately 2,300 acres in Grand County.

2. This withdrawal will expire 5 years from the effective date of this order unless, as a result of a review conducted before the expiration date pursuant to Section 204(f) of the Federal Land Policy and Management Act of 1976, 43 U.S.C. 1714(f) (2000), the Secretary determines that the withdrawal shall be extended.

Dated: October 28, 2005.
Rebecca W. Watson,
Assistant Secretary—Land and Minerals Management.

[FR Doc. 05-22605 Filed 11-14-05; 8:45 am]

BILLING CODE 6450-01-P